ENVIRONMENTAL PROTECTION AGENCY

[FRL-7987-8]

Meeting of the National Drinking Water Advisory Council—Notice of Public Meeting

AGENCY: Environmental Protection Agency (EPA).

ACTION: Notice.

SUMMARY: Under section 10(a)(2) of Public Law 92-423, The Federal Advisory Committee Act, notice is hereby given for a meeting of the National Drinking Water Advisory Council (NDWAC or Council). This Council was authorized by the Safe Drinking Water Act in 1974 (42 U.S.C. 300f et seq.) to support the Environmental Protection Agency in performing its duties and responsibilities related to the national drinking water program. The principal items on the Agenda for this meeting include: A report from the Council's Working Group on the near-term efforts to revise performance measures and indicators for the drinking water program; a presentation and discussion of the water program's sustainable infrastructure initiative; an update on the implementation of the recommendations in the Report on Water Security Practices, Incentives, and Measures, which the Council sent to EPA's Administrator in June 2005. Other EPA drinking water program activities will be addressed if sufficient time is available.

DATES: The Council meeting will be held on November 17, 2005, from 9 a.m. to 5:30 p.m. and November 18, 2005, from 8:30 a.m. until 11 a.m., Pacific Standard Time.

ADDRESSES: The meeting will be held at The Westin Hotel, 333 East Ocean Boulevard, Long Beach California 90802.

FOR FURTHER INFORMATION CONTACT: Members of the public who would like to attend the meeting, present an oral statement, or submit a written statement should contact Clare Donaher by phone at (202) 564-3787, by e-mail at donaher.clare@epa.gov, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour from 4:30-5:30 p.m. on November 17, 2005 for his purpose. Oral statements will be limited to five minutes. It is preferred that only one person present the statement on behalf of a group or organization. To ensure adequate time for public involvement, individuals or organizations interested in presenting an oral statement should notify Clare Donaher by telephone at (202) 564-3787 no later than November 9, 2005. Any person who wishes to file a written statement can do so before or after a Council meeting. Written statements received by November 7, 2005 will be distributed to all members of the Council before any final discussion or vote is completed. Any statements received after the meeting will become part of the permanent meeting file and will be forwarded to the Council members for their information. Any person needing special accommodations at this meeting, including wheelchair access, should contact Clare Donaher (see FOR FURTHER INFORMATION CONTACT section). Notification of at least five (5) business days before the meeting is preferred so that appropriate special accommodations can be made.

Dated: October 19, 2005.
Cynthia C. Dougherty,
Director, Office of Ground Water and Drinking Water.

[FR Doc. 05-21263 Filed 10-24-05; 8:45 am]

BILLING CODE 6560-50-P